FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants

Dolphin Logistics, Inc., 2437 Kiska Avenue, Hacienda Heights, CA 91745, Officer: Kenny Isung Tsai, CEO (Qualifying Individual).

Scotty's Caribbean Shipping, Inc., 608 East 38th Street, Brooklyn, NY 11203, Officer: Owen Duncan, President (Qualifying Individual).

Pinoy Express Cargo, Inc., 18800 Amar Road, Suite A-7, Walnut, CA 91789, Officers: Ray Nicolas Dumandan, Vice President (Qualifying Individual), Lawrence Lary Esguerra, President.

Admiral Global Services, Inc., dba ALG Admiral Global, Inc., 1101 Ellis Avenue, Bensenville, IL 60106, Officers: Christina Busch, Vice President (Qualifying Individual), Patricia R. Hezinger, President.

Non-Vessel—Operating Common Carrier and Ocean Freight Forwarder Transportation Intermediary Applicant

Swift Global Logistics, Inc., 6033 W. Century Blvd., Suite 210, Los Angeles, CA 90045, Officers: Peter N. Landon, Vice President (Qualifying Individual), Paul J. Martins, President.

Ocean Freight Forwarder—Ocean Transportation Intermediary Applicants

Seibal Cargo Corp., 9080 SW 125 Avenue, #B103, Miami, FL 33186, Officers: Yenifer Ponce, Secretary (Qualifying Individual), Mauricio Arriaga, Vice President.

Sanjet Express, Inc., 1 West Street, New Hyde Park, NY 11040, Officer: Jane Chin Shuen Lieu, President (Qualifying Individual).

Dated: November 4, 2005.
Bryant L. VanBrakle,
Secretary.

[FR Doc. 05-22369 Filed 11-8-05; 8:45 am]

BILLING CODE 6730-01-P